EXECUTIVE OFFICE OF THE PRESIDENT

National Commission on Fiscal Responsibility and Reform

Notice of Meetings

In accordance with section 10(a)(2) of the Federal Advisory Committee Act (Pub. L. 92-463), the National Commission on Fiscal Responsibility and Reform, authorized by Executive Order 13531, dated February 18, 2010, announces the following meetings for the remainder of calendar 2010:

Time and Date:

Wednesday, May 26, 9 a.m.-11:30 p.m. EDT.

Wednesday, June 30, 9:30 a.m.-12:30 p.m. EDT.

Wednesday, July 28, 9:30 a.m.-12:30 p.m. EDT.

Wednesday, September 29, 9:30 a.m.-12:30 p.m. EDT.

Wednesday, November 10, 9:30 a.m.-12:30 p.m. EST.

Wednesday, December 1, 9:30 a.m.-12:30 p.m. EST.

Place: The meetings will be held in Washington, DC at locations to be determined and announced. The meeting address will be made publicly available approximately two weeks prior to each meeting on the Commission's Web site at http://www.fiscalcommission.gov.

Public Access: The meetings will be open to the public, but seating will be limited by the space available. If you would like to attend the next scheduled meeting of the Commission, please RSVP to the Designated Federal Officer (DFO), Bruce Reed, at commission@fc.eop.gov. Registrations will be accepted until the space has reached capacity.

Purpose: This notice announces the monthly meetings of the National Commission on Fiscal Responsibility and Reform (Commission). At these meetings the Commission will discuss the Nation's long-term fiscal challenges. Additionally, the Commission will receive updates from its three subcommittees: Mandatory Spending Working Group, Discretionary Spending Working Group, and Tax Reform Working Group. A more complete agenda and any meeting materials will be made publicly available prior to each meeting at http://www.fiscalcommission.gov. Also, each meeting will be available via simultaneous webcast at http://www.whitehouse.gov/live.

Contact Person for Additional Information: Please contact Bruce Reed for any additional information about a specific meeting at commission@fc.eop.gov.

Public Comment: If you would like to submit written comments for distribution prior to the meeting, your comments should be received by the Commission no later than 10 days prior to the meeting concerned. The preferred written comment format is MS Word submitted to commission@fc.eop.gov.

Information on Services for Individuals With Disabilities

For information on facilities or services for individuals with disabilities or to request special assistance at the meetings, please inform the DFO at commission@fc.eop.gov as soon as possible.

Dated: May 5, 2010.
Bruce Reed,
Executive Director of the Commission.

[FR Doc. 2010-11213 Filed 5-10-10; 8:45 am]

BILLING CODE 3160-01-P